DEPARTMENT OF COMMERCE

Foreign-Trade Zones Board

[S-69-2013 and S-70-2013]

Approval of Subzone Status; GE Transportation; Lawrence Park Township and Grove City, Pennsylvania

On May 16, 2013, the Executive Secretary of the Foreign-Trade Zones (FTZ) Board docketed applications submitted by the Erie-Western Pennsylvania Port Authority, grantee of FTZ 247, requesting subzone status subject to the existing activation limit of FTZ 247, on behalf of GE Transportation, in Lawrence Park Township and Grove City, Pennsylvania.

The applications were processed in accordance with the FTZ Act and Regulations, including notice in the Federal Register inviting public comment (78 FR 30270-30271, 5-22-2013). The FTZ staff examiner reviewed the applications and determined that they meet the criteria for approval. Pursuant to the authority delegated to the FTZ Board Executive Secretary (15 CFR Sec. 400.36(f)), the applications to establish Subzone 247A in Lawrence Park Township and Subzone 247B in Grove City are approved, subject to the FTZ Act and the Board's regulations, including Section 400.13 and further subject to FTZ 247's 530-acre activation limit.

Dated: August 6, 2013.
Andrew McGilvray,
Executive Secretary.

[FR Doc. 2013-19600 Filed 8-12-13; 8:45 am]

BILLING CODE 3510-DS-P